MERIT SYSTEMS PROTECTION BOARD

Agency Information Collection Activities; Proposed Collection

AGENCY: Merit Systems Protection Board.

ACTION: Notice.

SUMMARY: In compliance with the Paperwork Reduction Act (PRA), the U.S. Merit Systems Protection Board (MSPB) is submitting a request for a three-year extension of an Information Collection Request (ICR) to the Office of Management and Budget (OMB) for review and approval. This ICR describes the nature of the information collection and its estimated burden and cost.

DATE: Submit written comments on or before September 4, 2012.

ADDRESSES: Submit your comments concerning this ICR by one of the following methods:

Mail: Attention: Desk Officer for MSPB, Office of Information and Regulatory Affairs, Office of Management and Budget, New Executive Office Building, Room 10235, Washington, DC 20503.

Email: OIRA_Submission@OMB.EOP.GOV. You also may submit comments to MSPB by one of the following methods:

Mail: William D. Spencer, Clerk of the Board, U.S. Merit Systems Protection Board, Suite 500, 1615 M Street NW., Washington DC 20419.

Email: Please include “Voluntary Customer Surveys” in the subject line of the message and send it to mspb@mspb.gov.

FOR FURTHER INFORMATION CONTACT: Dr. Dee Ann Batten by phone at (202) 254-4495; by email at deeann.batten@mspb.gov; or by fax at (202) 653-7211.

SUPPLEMENTARY INFORMATION: Under PRA (44 U.S.C. 3501-3520), Federal agencies must obtain approval from OMB for each collection of information they conduct or sponsor. The MSPB intends to ask for a three-year renewal of its Generic Clearance Request for Voluntary Customer Surveys, OMB Control No. 3124-0012. On April 30, 2012, MSPB sought public comments on this ICR pursuant to 5 CFR 1320.8(d). See 77 FR 25501. The MSPB did not receive any comments. The MSPB is submitting the ICR to OMB for review and approval according to the procedure prescribed in 5 CFR 1320.12.

Executive Order 12862, “Setting Customer Service Standards,” mandates agencies to identify their customers and survey them to determine the kind and quality of services they want and their level of satisfaction with existing services. The MSPB's customers and stakeholders include persons who file appeals with MSPB for agency actions taken against them (appellants), their representatives, and representatives of the agency which took the action.

These surveys will be used to evaluate how well we are serving our customers in terms of their perceptions of timeliness, fairness, accessibility, and sensitivity to their situation in deciding their appeals. We also have used customer surveys to determine the usefulness of the reports issued by the Office of Policy & Evaluation. As a result of these surveys we have established baseline performance measures for both our appeals process and merit systems review responsibilities.

Burden Statement: The annual public reporting and recordkeeping burden for this collection of information is estimated to average 0.50 hours per respondent.

Respondents/Affected Entities: Participants are selected via simple or stratified random sampling to facilitate a representative sample of Federal employees.

Estimated Number of Respondents Survey: 3,000.

Frequency of Response: Once.

Estimated Total Annual Hour Burden: 750 hours.

William D. Spencer,
Clerk of the Board.

[FR Doc. 2012-18939 Filed 8-2-12; 8:45 am]

BILLING CODE 7400-01-P